SMALL BUSINESS ADMINISTRATION

[Disaster Declaration #15775; Massachusetts Disaster Number MA-00076]

Declaration of Economic Injury; Administrative Declaration of an Economic Injury Disaster for the Commonwealth of Massachusetts

AGENCY: U.S. Small Business Administration.

ACTION: Notice.

SUMMARY: This is a notice of an Economic Injury Disaster Loan (EIDL) declaration for the Commonwealth of Massachusetts, dated 10/23/2018.

Incident: Natural Gas Line Explosions.

Incident Period: 09/13/2018.

DATES: Issued on 10/23/2018.

Economic Injury (EIDL) Loan Application Deadline Date: 07/23/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Essex

Contiguous Counties:

Massachusetts: Middlesex, Suffolk.

New Hampshire: Hillsborough, Rockingham.

The Interest Rates are:

| Percent
Businesses and Small Agricultural Cooperatives without Credit Available Elsewhere | 3.675
Non-Profit Organizations without Credit Available Elsewhere | 2.500

The number assigned to this disaster for economic injury is 157750.

The States which received an EIDL Declaration # are Massachusetts, New Hampshire.

(Catalog of Federal Domestic Assistance Number 59008)

Dated: October 23, 2018.
Linda E. McMahon,
Administrator.

[FR Doc. 2018-25041 Filed 11-15-18; 8:45 am]

BILLING CODE 8025-01-P